ENVIONMENTAL PROTECTION AGENCY

[OPP-2005-0090; FRL-7707-5]

EFED Exposure Modeling Work Group; Notice of Public Meeting

AGENCY: Environmental Protection Agency (EPA).

ACTION: Notice.

SUMMARY: This notice announces an April meeting of the Exposure Modeling Work Group (EMWG). The EMWG meetings are sponsored by the Office of Pesticide Programs' Environmental Fate and Effects Division (EFED). The theme for this meeting is “pesticides in air” and will include presentations on pesticide volatilization from soil, pesticide spray drift and pesticide in rain water. The purpose of the meetings is to update those in the pesticide regulatory community on advances in estimating pesticide concentrations in media of concern through computer simulation. Improvements in estimation of pesticide exposure lead directly to improvements in estimation of risk both to the environment and to human health.

DATES: The meeting will be held on April 11, 2005 from 9 a.m. to 3 p.m.

ADDRESSES: The meeting will be held at 1126 Crystal Mall #2, 1801 S. Bell St., Arlington, VA 22202.

FOR FURTHER INFORMATION CONTACT: Ronald Parker, Environmental Fate and Effects Division (7507C), Office of Pesticide Programs, Environmental Protection Agency, 1200 Pennsylvania Ave., NW., Washington, DC 20460-0001; telephone number: (703) 305-5505, fax number: (703) 305-6309; e-mail address: parker.ronald@epa.gov.

SUPPLEMENTARY INFORMATION:

I. General Information

A. Does this Action Apply to Me?

You may be interested in this meeting if you perform exposure risk assessments for pesticides. This action may, however, be of interest to persons who are pesticide industry scientists, government regulatory scientists, or environmental group scientists. Since other entities may also be interested, the Agency has not attempted to describe all the specific entities that may be affected by this action. If you have any questions regarding the applicability of this action to a particular entity, consult the person listed under FOR FURTHER INFORMATION CONTACT.

This listing is not intended to be exhaustive, but rather provides a guide for readers. If you have any questions regarding the applicability of this information for a particular entity, consult the person listed under FOR FURTHER INFORMATION CONTACT.

B. How Can I Get Copies of this Document and Other Related Information?

1.Docket. EPA has established an official public docket for this action under docket identification (ID) number OPP-2005-0090. The official public docket consists of the documents specifically referenced in this action, any public comments received, and other information related to this action. Although, a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

Exposure Modeling Work Group Meetings are sponsored by EFED, and are held quarterly. The purpose of the meetings is to stimulate discussion on the subject of pesticide environmental fate and transport computer modeling, with the objective of improving the science and practice of estimating exposure to pesticides. Media of concern include surface water, ground water, soil, air, items that may serve as food for wildlife and items that may be food for human consumption. Presentations are sometimes focused around a theme.

The agenda for the meeting follows:

1. Welcome and Introductions - (9 a.m. - 9:05 a.m.)

2. Old Action Items - (9:05 a.m. - 9:15 a.m.)

3. Brief Updates (9:15 a.m. - 9:45 a.m.)

• PRZM3.12.2 Evaluation (J. Hetrick)

• EXPRESS (R. Parker)

• Carbamate Cumulative Assessment (N. Thurman)

4. Major Topics

Morning Session

9:45 a.m.-10:15 a.m. - Soil Fumigant Critical Input Parameter Selection for Air Dispersion Modeling, Ian van Wesenbeeck, Ph.D. Dow AgroSciences

10:15 a.m.-10:45 a.m. - Fumigant Exposure Modeling System (FEMS): David Sullivan - - Sullivan Consulting

10:45 a.m.-11 a.m. - Break

11 a.m.-11:30 a.m. - Probabilistic Exposure and Risk model for Fumigants (PERFUM): Rick Reiss Sciences International

11:30 a.m.-12 noon - Predicting Soil Fumigant Acute, Sub-chronic, and Chronic Air Concentrations Under Diverse Agronomic Practices: An overview of the SOFEA(c) System. Steve Cryer, Ph.D. - Dow AgroSciences

12 noon-1 p.m. - Lunch Break

Afternoon Session

1 p.m.-1:30 p.m. - Environmental and Agricultural Factors Controlling Pesticide Volatilization, Transport, and Deposition. Laura McConnell, Ph.D. USDA/ARS Beltsville, MD

1:30 p.m.-1:45 - EFED Spray Drift Modeling Activities: Norm Birchfield, Ph.D - OPP/EFED

1:45 p.m.-2:05 - Drift Reducing Technology Project: 2:05 p.m.-2:20 p.m. Norm Birchfield

2:20 p.m.-2:45 p.m. - AgDrift/AgDisp Modeling Issues: Dave Valcore, Ph.D. - Dow AgroSciences

2:45 p.m.-3 p.m. - Wrap-Up.

Next Meeting - R. Parker

List of Subjects

Environmental protection, Pesticide exposure assessment, Pesticide risk assessment, Pesticide volatilization, Pesticide spray drift, Pesticide environmental fate and transport computer modeling.

Dated: March 22, 2005.
Elizabeth M. Leovey,
Acting Director, Environmental Fate and Effects Division, Office of Pesticide Programs

[FR Doc. 05-6625 Filed 3-31-05; 8:45 am]

BILLING CODE 6560-50-S